DEPARTMENT OF STATE

[Public Notice 3395]

Culturally Significant Objects Imported for Exhibition; Determinations: “Huupukwanum-Tupaat, Treasures of the Nuuchah-nulth Chiefs”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the object to be included in the exhibition “Huupukwanum-Tupaat, Treasures of the Nuuchah-nulth Chiefs” imported from abroad for the temporary exhibition without profit within the United States, is of cultural significance. The object is imported pursuant to loan agreement with the foreign lender. I also determine that the exhibition or display of the exhibit object at the Denver Museum of Natural History (now operating as the Denver Museum of Nature and Science), Denver, Colorado, from October 2, 2000 through January 15, 2000 is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW, Room 700, Washington, DC 20547-0001.

Dated: August 11, 2000.
Helena Kane Finn,
Acting Assistant Secretary for Educational and Cultural Affairs, Department of State.

[FR Doc. 00-21238 Filed 8-18-00; 8:45 am]

BILLING CODE 4710-08-U